DEPARTMENT OF THE INTERIOR

U.S. Geological Survey

[GX22EN05ESBJF00]

Advisory Council for Climate Adaptation Science Establishment; Request for Nominations

AGENCY: U.S. Geological Survey, Interior.

ACTION: Notice.

SUMMARY: The U.S. Department of the Interior (DOI) is establishing and seeking nominations for the Advisory Council for Climate Adaptation Science (Council). The Council will advise the Secretary of the Interior on the establishment and operations of the U.S. Geological Survey (USGS) National Climate Adaptation Science Center (NCASC) and its nine regional Climate Adaptation Science Centers (CASCs).

DATES: Comments regarding the establishment of this Council must be submitted no later than December 19, 2022. Nominations for the Council must be submitted by January 16, 2023.

ADDRESSES: You may submit comments and/or nominations by any of the following methods:

• Mail nominations to Janet Cushing, U.S. Geological Survey, National Climate Adaptation Science Center, 12201 Sunrise Valley Drive Mailstop 516, Reston, VA 20192; or

• Email nominations to: jcushing@usgs.gov.

FOR FURTHER INFORMATION CONTACT: Janet Cushing, Council Designated Federal Officer, by U.S. mail at the U.S. Geological Survey, 12201 Sunrise Valley Drive Mailstop 516, Reston, VA 20192; by telephone at 703-648-4015; or by email at jcushing@usgs.gov.

SUPPLEMENTARY INFORMATION: The Council is established under the authority of the Secretary and regulated by the Federal Advisory Committee Act (FACA), as amended (5 U.S.C. Appendix 2). The Council's duties are strictly advisory and consist of, but are not limited to, providing recommendations on: (a) advising on the contents of a national strategy identifying key climate adaptation science priorities to advance the management of natural and cultural resources in the face of climate change; (b) advising on the nature, extent, and quality of relations with and engagement of key partners at the regional/CASC level; (c) advising on the nature and effectiveness of mechanisms to effectively deliver science information and tools, and build capacity, to aid the natural and cultural resource management community and decision-makers in adapting to a changing climate; (d) advising on mechanisms that may be employed by the NCASC to ensure high standards of scientific quality and integrity in its products, and to review and evaluate the performance of individuals CASCs, in advance of opportunities to re-establish expiring agreements; and (e) advising on the integration of equity, particularly for historically underserved communities, in the operation of the NCASC and regional CASCs.

The Council will meet approximately one to two times per year. The Secretary of the Interior will appoint members and their alternates to the Council to a 2- to 3-year term. The members of the Council shall comprise approximately 18 members who represent the diversity of this nation's constituencies, and include the following interests:

• State and local governments, including state membership entities

• Non-governmental organizations whose primary mission is conservation and related scientific and advocacy activities

• American Indian/Alaska Native/Indigenous organizations

• Academia

• Other sectors, environmental justice organizations, private industry

Nominations should include a resume providing an adequate description of the nominee's qualifications, including information that would enable DOI to make an informed decision regarding meeting the membership requirements of the Council and to permit DOI to contact a potential member.

Members of the Council serve without compensation. However, while away from their homes or regular places of business, Council and subcommittee members engaged in Council or subcommittee business that the DFO approves may be allowed travel expenses, including per diem in lieu of subsistence, as authorized by 5 U.S.C. 5703, in the same manner as persons employed intermittently in Federal Government service.

Public Disclosure of Comments: Before including your address, phone number, email address, or other personally identifiable information (PII) in your comment, you should be aware that your entire comment—including your PII—may be made publicly available at any time. While you can ask us in your comment to withhold your PII from public review, we cannot guarantee that we will be able to do so.

Certification Statement: I hereby certify that the Advisory Council for Climate Adaptation Science is necessary, in the public interest, and is in connection to the responsibilities of the Department of the Interior under Section 2 of the Reorganization Plan No. 3 of 1950 (64 Stat. 1262) as amended, and the Consolidated Appropriations Act of 2008, Public Law 110-161 Division F, Title I. The Council is established in accordance with the provisions of the Federal Advisory Committee Act (FACA), as amended, 5 U.S.C. Appendix 2.

Authority: 5 U.S.C. Appendix 2.

Deb Haaland,
Secretary, Department of the Interior.

[FR Doc. 2022-26205 Filed 12-1-22; 8:45 am]

BILLING CODE 4338-11-P